NUCLEAR REGULATORY COMMISSION

Biweekly Notice; Applications and Amendments to Facility Operating Licenses Involving No Significant Hazards Considerations

I. Background

Pursuant to section 189a.(2) of the Atomic Energy Act of 1954, as amended (the Act), the U.S. Nuclear Regulatory Commission (the Commission or NRC staff) is publishing this regular biweekly notice. The Act requires the Commission publish notice of any amendments issued, or proposed to be issued, and grants the Commission the authority to issue and make immediately effective any amendment to an operating license upon a determination by the Commission that such amendment involves no significant hazards consideration, notwithstanding the pendency before the Commission of a request for a hearing from any person.

This biweekly notice includes all notices of amendments issued, or proposed to be issued, from May 8, 2008, to May 21, 2008. The last biweekly notice was published on May 20, 2008 (73 FR 13021).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example, in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rulemaking, Directives and Editing Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area O1F21, 11555 Rockville Pike (first floor), Rockville, Maryland. The filing of requests for a hearing and petitions for leave to intervene is discussed below.

Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR part 2. Interested person(s) should consult a current copy of 10 CFR 2.309, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed within 60 days the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner/requestor intends to rely in proving the contention at the hearing. The petitioner/requestor must also provide references to those specific sources and documents of which the petitioner is aware and on which the petitioner/requestor intends to rely to establish those facts or expert opinion. The petition must include sufficient information to show that a genuine dispute exists with the applicant on a material issue of law or fact. Contentions shall be limited to matters within the scope of the amendment under consideration. The contention must be one which, if proven, would entitle the petitioner/requestor to relief. A petitioner/requestor who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

A request for hearing or a petition for leave to intervene must be filed in accordance with the NRC E-Filing rule, which the NRC promulgated in August 28, 2007 (72 FR 49139). The E-Filing process requires participants to submit and serve documents over the Internet or in some cases to mail copies on electronic storage media. Participants may not submit paper copies of their filings unless they seek a waiver in accordance with the procedures described below.

To comply with the procedural requirements of E-Filing, at least five (5) days prior to the filing deadline, the petitioner/requestor must contact the Office of the Secretary by e-mail at hearingdocket@nrc.gov, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer(™ to access the Electronic Information Exchange (EIE), a component of the E-Filing system. The Workplace Forms Viewer ™ is free and is available at http://www.nrc.gov/site-help/e-submittals/install-viewer.html. Information about applying for a digital ID certificate is available on NRC's public Web site at http://www.nrc.gov/site-help/e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a Presiding Officer. Participants are requested not to include personal privacy information, such as social security numbers, home addresses, or home phone numbers in their filings. With respect to copyrighted works, except for limited excerpts that serve the purpose of the adjudicatory filings and would constitute a Fair Use application, participants are requested not to include copyrighted materials in their submission.

For further details with respect to this amendment action, see the application for amendment which is available for public inspection at the Commission's PDR, located at One White Flint North, Public File Area 01F21, 11555 Rockville Pike (first floor), Rockville, Maryland. Publicly available records will be accessible from the ADAMS Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

AmerGen Energy Company, LLC, et al., Docket No. 50-219, Oyster Creek Nuclear Generating Station (Oyster Creek), Ocean County, New Jersey

Date of amendment request: November 2, 2007.

Description of amendment request: The proposed amendment would modify the Technical Specification (TS) definitions, TS 3.5.B, “Secondary Containment,” and TS 3.17, “Control Room Heating, Ventilating, and Air-Conditioning System,” to eliminate the requirement for secondary containment to be operable during handling of irradiated fuel.

Basis for proposed no significant hazards consideration determination: As required by 10 CFR 50.91(a), the licensee has provided its analysis of the issue of no significant hazards consideration, which is presented below:

1. Does the proposed amendment involve a significant increase in the probability or consequences of an accident previously evaluated?

Response: No.

The proposed change is [based on a reanalysis of] a postulated fuel handling accident inside the Reactor Building occurring during fuel loading and refueling activities. The proposed change does not involve a change to structures, components, or systems that would affect the probability of an accident previously evaluated in the Oyster Creek Updated Final Safety Analysis Report (UFSAR). Oyster Creek Alternative Source Term (AST) methodology has been previously reviewed and approved by the NRC. [The] AST [methodology] is used to evaluate the dose consequences of the postulated fuel handling accident. The postulated fuel handling accident has been analyzed without credit for Secondary Containment integrity and Standby Gas Treatment system operation. The resultant radiological consequences are within the acceptance criteria set forth in [Title 10 of The Code of Federal Regulations] 10 CFR [Section] 50.67 and [Regulatory Guide] RG 1.183. Therefore, the proposed changes do not significantly increase the consequences of an accident previously evaluated.

This amendment does not alter methodology or equipment used directly in fuel handling operations. The Secondary Containment structure and the Standby Gas Treatment system, and any component thereof, are not accident initiators. Actual fuel handling operations are not affected by the proposed changes. Therefore, the probability of a fuel handling accident is not affected with the proposed amendment. No other accident initiator is affected by the proposed changes.

Therefore, the proposed changes do not involve a significant increase in the probability or consequences of an accident previously evaluated.

2. Does the proposed amendment create the possibility of a new or different kind of accident from any accident previously evaluated?

Response: No.

The proposed amendment will not create the possibility for a new or different type of accident from any accident previously evaluated. Equipment important to safety will continue to operate as designed. Component integrity is not challenged. The changes do not result in any event previously deemed incredible being made credible. The changes do not result in more adverse conditions or result in any increase in the challenges to safety systems. The systems affected by the changes are used to mitigate the consequences of an accident that has already occurred. The proposed Technical Specification changes do not [reduce] the mitigative function of these systems.

Therefore, the proposed changes do not create the possibility of a new or different kind of accident from any accident previously evaluated.

3. Does the proposed amendment involve a significant reduction in a margin of safety?

Response: No.

Safety margins and analytical [assumptions] have been evaluated and have been found acceptable. The analyzed event has been carefully selected and margin has been retained to ensure that the analysis adequately bounds the postulated event scenario. The dose consequences due to the postulated event comply with the requirements of 10 CFR 50.67 and the guidance of RG 1.183.

The proposed amendment is associated with the implementation of a new licensing basis for the Oyster Creek Fuel Handling Accident. The change from the original source term to a new source term taken from RG 1.183 has been previously approved by the NRC for Oyster Creek. The results of the accident analysis, revised in support of the proposed license amendment, are subject to revised acceptance criteria. The analysis has been performed using conservative methodologies, as specified in RG 1.183. Safety margins have been evaluated and analytical conservatism has been utilized to ensure that the analysis adequately bounds the postulated limiting event scenario. The dose consequences of this design basis accident remain within the acceptance criteria presented in 10 CFR 50.67, “Accident source term”, and RG 1.183. The proposed changes continue to ensure that the doses at the exclusion area boundary (EAB) and low population zone (LPZ), as well as the Control Room, are within corresponding regulatory limits.

Therefore, the proposed changes do not involve a significant reduction in any margin of safety.

The NRC staff has reviewed the licensee's analysis and, based on this review, and with the changes noted above, it appears that the three standards of 10 CFR 50.92(c) are satisfied. Therefore, the NRC staff proposes to determine that the amendment request involves no significant hazards consideration.

Attorney for licensee: Thomas S. O'Neill, Associate General Counsel, Exelon Generation Company, LLC, 4300 Winfield Road, Warrenville, IL 60555.

NRC Branch Chief: Harold K. Chernoff.

Dominion Energy Kewaunee, Inc. Docket No. 50-305, Kewaunee Power Station (KPS), Kewaunee County, Wisconsin

Date of amendment request: April 4, 2008.

Description of amendment request: The proposed amendment would remove the operability and surveillance requirements for the heaters contained in the shield building ventilation (SBV) system and in the auxiliary building special ventilation (ABSV) system, and reduce the operating time required to demonstrate SBV system operability.

Basis for proposed no significant hazards consideration determination: As required by 10 CFR 50.91(a), the licensee has provided its analysis of the issue of no significant hazards consideration, which is presented below:

1. Does the proposed amendment involve a significant increase in the probability or consequences of an accident previously evaluated?

Response: No

The SBV or ABSV system heaters are not accident initiators. Their original purpose was to improve the effectiveness of the system's charcoal adsorbers by decreasing the air stream humidity before entering the adsorber section of the filter unit. However, the currently required testing methodology for the ABSV and SBV verifies charcoal adsorber iodine removal efficiency is greater than assumed in the KPS radiological accident analysis of record (AOR), with a safety factor of 2, without crediting the heaters.

The proposed amendment would not change any of the previously evaluated accidents in the updated safety analysis report (USAR). The current radiological accident analysis of record (AOR) bounds operation of the plant without consideration of the shield building ventilation (SBV) or auxiliary building special ventilation (ABSV) heaters. In addition, the current testing requirements are adequate to validate that the charcoal adsorber remains capable of performing at its assumed efficiency without crediting humidity control. The proposed change does not increase the likelihood of a malfunction of an SSC. The result of this change will be the eventual removal of un-needed equipment. Since the equipment is not needed and the removal will make the system less complex, the probability of a malfunction of the SBV system or the ABSV system is not significantly increased.

In addition, removal of the post-accident electrical load associated with the heaters reduces electrical load on the emergency diesel generators, which provides additional margin regarding the capability of emergency power.

In addition, elimination of the heaters from the ABSV reduces post-accident heat load in the SV area, which in turn reduces the potential for heat related equipment failures in the area.

Therefore, the proposed change does not involve a significant increase in the probability or consequences of an accident previously evaluated.

2. Does the proposed amendment create the possibility of a new or different kind of accident from any accident previously evaluated?

Response: No

The SBV and ABSV systems are accident response systems and as such do not cause or initiate accidents. The proposed change does not functionally change the design or operation of the SBV system or that of the ABSV system. Deletion of heater requirements from the TS is based on the heaters not being needed for mitigation of any accident condition and does not significantly affect the operation of these systems. These systems will continue to meet the functional requirements in the current radiological accident analysis of record for Kewaunee and maintain calculated dose consequences within acceptable limits. Because the SBV and ABSV systems are not accident initiators, this proposed change will not create the possibility of a new or different kind of accident.

Therefore, the proposed change does not create the possibility of a new or different kind of accident from any previously evaluated.

3. Does the proposed amendment involve a significant reduction in a margin of safety?

Response: No

The removal of the ABSV and SBCV heaters will result in a reduction in the efficiency of the charcoal adsorber due to the removal of the humidity reduction affect. However, these changes are bounded within the assumptions of the AOR. Specifically, the currently required testing methodology for the ABSV and SBV verifies charcoal adsorber iodine removal efficiency is greater than assumed in the KPS radiological accident analysis of record (AOR), with a safety factor of 2, without crediting the heaters. The removal of these heaters does not alter the safety margins contained in the radiological accident analysis. The KPS current radiological accident analysis was performed in accordance with NRC Regulatory Guide 1.183, “Alternative Radiological Source Terms for Evaluating Design Basis Accident at Nuclear Power Reactors.” Surveillance requirement acceptance criteria for the SBV and the ABSV filters are based on 95% RH and 30C, consistent with Generic Letter 99-02 guidance for systems without humidity control. Removal of the SBV and ABSV heaters does not alter the safety margins contained in the current radiological accident analyses or the surveillance testing criteria. The charcoal adsorber sample laboratory testing protocol accurately demonstrates the required performance of the adsorbers in the SBV and ABSV systems following a design basis accident. These testing standards ensure adequate margin exists and that the charcoal will perform its design basis function. The offsite and control room dose analyses are not affected by this change, and offsite and control room doses will remain within the limits of 10 CFR 50.67 and Regulatory Guide 1.183.

The current surveillance test acceptance criteria for the ABSV and SBV systems currently provide a safety factor of 2 when compared to the assumptions for charcoal filter performance in the current radiological accident analysis. This safety factor will not be adversely affected by the proposed change.

Furthermore, removal of the TS requirement will allow the heaters to be permanently de-energized. This will result in an increase in the margin between the post-accident calculated load and the load limitations on both emergency diesel generators and between the ambient temperature limitations of certain safety related equipment and the calculated maximum post-accident ambient temperature for this equipment.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, Richmond, VA 23219.

NRC Branch Chief: Lois James.

Exelon Generation Company, LLC, Docket Nos. STN 50-454 and STN 50-455, Byron Station, Unit Nos. 1 and 2, Ogle County, Illinois

Docket Nos. STN 50-456 and STN 50-457, Braidwood Station, Units 1 and 2, Will County, Illinois

Date of amendment request: February 21, 2008.

Description of amendment request: The proposed amendment would revise the current licensing basis associated with the application of the alternative source term (AST) methodology, previously approved by the Nuclear Regulatory Commission (NRC) staff. Specifically, the proposed amendment would remove credit in the AST analyses for the control room ventilation system recirculation filters, which function as prefilters.

Basis for proposed no significant hazards consideration determination: As required by 10 CFR 50.91(a), the licensee has provided its analysis of the issue of no significant hazards consideration, which is presented below:

1. Does the proposed change involve a significant increase in the probability or consequences of an accident previously evaluated?

Response: No.

The AST methodology, as previously reviewed and approved for use at Braidwood and Byron Stations by the NRC, follows the guidance provided in RG 1.183 and satisfies the dose limits in 10 CFR 50.67. However, it was recently identified that a misapplication of a Control Room Ventilation (VC) System prefilter efficiency was incorporated into the previously approved AST analyses. As a result, it was necessary to revise the Braidwood Station and Byron Station AST calculations to remove credit for the prefilter. To offset the increase in dose associated with the removal of the prefilter credit, the assumed control room unfiltered air inleakage value was also reduced from 1000 cubic feet per minute (cfm) to 500 cfm. The implementation of the revised AST assumptions has been evaluated in revisions to the analyses of the following DBAs at the Braidwood Station and Byron Station.

• Loss-of-Coolant Accident (LOCA).

• Locked Rotor Accident (LRA).

• Control Rod Ejection Accident (CREA).

The proposed changes to the assumptions used in the AST analyses do not affect any of the parameters or conditions that could contribute to the initiation of any accidents. The proposed changes to the AST analyses do not require any physical changes to the plant. Application of the proposed changes to the AST analyses does not result in changes to the functions and operation of various filtration systems as described in the Updated Final Safety Analysis Report (UFSAR). The proposed change to the AST assumptions will not alter the capability of any structure, system, or component (SSC) to perform its design function. Therefore, the proposed changes being evaluated do not alter existing accident initiators. Since DBA initiators are not being altered by the proposed change to the AST methodology assumptions, the probability of an accident previously evaluated is not affected.

The revised AST analyses did result in an increase in the calculated control room dose; however, there was no change in the offsite dose. The results of the revised AST analyses have demonstrated that the 10 CFR 50.67 limits are still satisfied. Since the resulting control room dose continues to comply with the regulatory limits associated with the AST methodology, the changes do not constitute a significant change. Therefore, it is concluded that the proposed change does not involve a significant increase in the consequences of an accident previously evaluated.

Based on the above discussion, the proposed changes do not involve a significant increase in the probability or consequences of an accident previously evaluated.

2. Does the proposed change create the possibility of a new or different kind of accident from any accident previously evaluated?

Response: No.

The proposed change is to the assumptions used in the AST analyses and will not change the design function or operation of any SSCs. Revision of the AST analyses assumptions will not result in a credible new failure mechanism, malfunction, or accident initiator not considered in the design and licensing bases. The proposed changes do not require any physical changes to any SSCs involved in the mitigation of any accidents. In addition, no precursors of a new or different kind of accident are created. New equipment or personnel failure modes that might initiate a new type of accident are not created as a result of the proposed changes.

Based on the above discussion, the proposed changes do not create the possibility of a new or different kind of accident from any accident previously evaluated.

3. Does the proposed amendment involve a significant reduction in a margin of safety?

Response: No.

The proposed change involves revising the Braidwood and Byron Stations' AST calculations to remove credit for the VC System prefilters and reduce the assumed control room air inleakage value. The safety margins and analytical conservatisms associated with the revised AST assumptions were evaluated and found acceptable. The results of the revised DBA analyses, performed in support of the proposed changes, are subject to specific acceptance criteria as specified in RG 1.183 and 10 CFR 50.67.

The AST calculations for the LOCA, LRA, and CREA were revised and updated control room doses determined based on the revised assumptions. The revised calculations indicate an increase in control room dose when compared to the doses documented in the current licensing basis for Braidwood and Byron Stations; however, the revised dose consequences for the applicable DBAs remain within the acceptance criteria presented in RG 1.183. The revised control room doses were compared to the regulatory limits specified in 10 CFR 50.67 and have been demonstrated to remain within the specified limits. Since the resulting control room doses continue to meet the regulatory limits the proposed changes do not constitute a significant reduction in a margin of safety.

While the proposed changes do result in an increased control room dose, there is no change in the offsite dose. This proposed change in the analysis assumptions affects only the control room dose and does not affect the calculated offsite doses. Therefore, the proposed changes continue to ensure that the doses at the exclusion area boundary (EAB) and low population zone boundary (LPZ) are within the specified regulatory limits and do not result in a significant reduction in a margin of safety.

Therefore, based on the above discussion, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. Bradley J. Fewell, Associate General Counsel, Exelon Generation Company, LLC, 4300 Winfield Road, Warrenville, IL 60555.

NRC Branch Chief: Russell Gibbs.

Exelon Generation Company, LLC, Docket Nos. STN 50-456 and STN 50-457, Braidwood Station, Units 1 and 2, Will County, Illinois

Exelon Generation Company, LLC, Docket Nos. STN 50-454 and STN 50-455, Byron Station, Unit Nos. 1 and 2, Ogle County, Illinois

AmerGen Energy Company, LLC, Docket No. 50-461, Clinton Power Station, Unit No. 1, DeWitt County, Illinois

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket No. 50-352 and No. 50-353, Limerick Generating Station, Unit 1 and 2, Montgomery County, Pennsylvania

AmerGen Energy Company, LLC, et. al., Docket No. 50-219, Oyster Creek Nuclear Generating Station, Ocean County, New Jersey

Exelon Generation Company, LLC, and PSEG Nuclear LLC, Docket Nos. 50-277 and 50-278, Peach Bottom Atomic Power Station, Units 2 and 3,York and Lancaster Counties, Pennsylvania

Exelon Generation Company, LLC, Docket Nos. 50-254 and 50-265, Quad Cities Nuclear Power Station, Units 1 and 2, Rock Island County, Illinois

AmerGen Energy Company, LLC, Docket No. 50-289, Three Mile Island Nuclear Station, Unit 1 (TMI-1), Dauphin County, Pennsylvania

Date of amendment request: April 21, 2008.

Description of amendment request: The proposed amendment removes references to and limits imposed by Nuclear Regulatory Commission Generic Letter (GL) 82-12, “Nuclear Power Plant Staff Working Hours,” from the subject plants' technical specifications (TS). The guidelines have been superseded by the requirements of Title 10 of the Code of Federal Regulations, Part 26 (10 CFR 26), Subpart I, “Managing Fatigue.”

Basis for proposed no significant hazards consideration determination: As required by 10 CFR 50.91(a), the licensee has provided its analysis of the issue of no significant hazards consideration, which is presented below:

1. Do the proposed changes involve a significant increase in the probability or consequences of an accident previously evaluated?

Response: No.

The removal of references to GL 82-12 will not remove the requirement to control work hours and manage fatigue. Removal of TS references to GL 82-12 will be performed concurrently with the implementation of the more conservative 10 CFR 26, Subpart I, requirements. The proposed changes do not impact the physical configuration or function of plant structures, systems, or components (SSCs) or the manner in which SSCs are operated, maintained, modified, tested, or inspected. The proposed changes do not impact the initiators or assumptions of analyzed events, nor do they impact the mitigation of accidents or transient events.

Because these new requirements are more conservative with respect to work hour controls and fatigue management, this will not significantly increase the probability or consequence of an accident previously evaluated.

2. Do the proposed changes create the possibility of a new or different kind of accident from any accident previously evaluated?

Response: No.

The proposed changes remove references to GL 82-12 from TS to support the addition of Subpart I to 10 CFR 26. These regulations are more restrictive than the current guidance and would add conservatism to work hour controls and fatigue management. Work hours will continue to be controlled in accordance with NRC requirements. The new rule continues to allow for deviations from controls to mitigate or prevent a condition adverse to safety or necessary to maintain the security of the facility. This ensures that the new rule will not restrict work hours at the expense of the health and safety of the public as well as plant personnel.

The proposed changes do not alter plant configuration, require that new plant equipment be installed, alter assumptions made about accidents previously evaluated, add any initiators, or impact the function of plant SSCs or the manner in which SSCs are operated, maintained, modified, tested, or inspected.

Because the proposed changes do not remove the station's requirement to control work hours and increases the conservatism of work hour controls by changing administrative scheduling requirements, the proposed changes do not create the possibility of a new or different kind of accident from any previously evaluated.

3. Do the proposed changes involve a significant reduction in a margin of safety?

Response: No.

An input to maintaining the margin of safety is the control of work hours as a tool in managing fatigue. The affected stations will continue their fitness-for-duty and behavioral observation programs, both of which will be strengthened by compliance with the new rule. The proposed changes add conservatism to fatigue management and contribute to the margin of safety.

The proposed changes do not involve any physical changes to plant SSCs or the manner in which SSCs are operated, maintained, modified, tested, or inspected. The proposed changes do not involve a change to any safety limits, limiting safety system settings, limiting conditions of operation, or design parameters for any SSC. The proposed changes do not impact any safety analysis assumptions and does not involve a change in initial conditions, system response times, or other parameters affecting an accident analysis.

Therefore, the proposed changes do not involve a significant reduction in the margin of safety.

The NRC staff has reviewed the licensee's analysis and, based on this review, it appears that the three standards of 10 CFR 50.92(c) are satisfied. Therefore, the NRC staff proposes to determine that the requested amendments involve no significant hazards consideration.

Attorney for licensee: Mr. Bradley Fewell, Associate General Counsel, Exelon Generation Company, LLC, 4300 Winfield Road, Warrenville, IL 60555.

NRC Branch Chief: Russell Gibbs.

Omaha Public Power District, Docket No. 50-285, Fort Calhoun Station, Unit No. 1, Washington County, Nebraska

Date of amendment request: February 5, 2008.

Description of amendment request: The amendment would revise the Technical Specifications (TS) to eliminate the second condition of Limiting Conditions for Operation (LCO) 2.5(1)A. The current LCO 2.5(1)A. states, “With one steam supply to the turbine driven AFW [auxiliary feedwater] pump inoperable, restore the steam supply to OPERABLE status within 7 days and within 8 days from discovery of the failure to meet the LCO.” The amendment would eliminate the second condition that states, “and within 8 days from discovery of failure to meet the LCO.” The proposed change is consistent with the objective of Technical Specification Task Force (TSTF) Traveler TSTF-439, Revision 2, “Eliminate Second Completion Times Limiting Time From Discovery of Failure to Meet an LCO.”

Basis for proposed no significant hazards consideration determination: As required by 10 CFR 50.91(a), the licensee has provided its analysis of the issue of no significant hazards consideration, which is presented below:

1. Does the proposed change involve a significant increase in the probability or consequences of an accident previously evaluated?

Response: No.

The proposed change eliminates the second completion time from the technical specifications pertaining to the auxiliary feedwater (AFW) system. Completion times are not an initiator of any accident previously evaluated. As a result, the probability of an accident previously evaluated is not affected. The consequences of an accident during the revised completion time are no different than the consequences of the same accident during the existing completion time. As a result, the consequences of an accident previously evaluated are not affected by this change. The proposed change does not alter or prevent the ability of structures, systems, and components from performing their intended function to mitigate the consequences of an initiating event within the assumed acceptance limits. The proposed change does not affect the source term, containment isolation, or radiological release assumptions used in evaluating the radiological consequences of an accident previously evaluated. Further, the proposed change does not increase the types or amounts of radioactive effluent that may be released offsite, nor significantly increase individual or cumulative occupational/public radiation exposures. The proposed change is consistent with the safety analysis assumptions and resultant consequences. Therefore, the proposed change does not involve a significant increase in the probability or consequences of an accident previously evaluated.

2. Does the proposed change create the possibility of a new or different accident from any accident previously evaluated?

Response: No.

The proposed change does not involve a physical alteration of the plant (i.e., no new or different type of equipment will be installed) or a change in the methods governing normal plant operation. The proposed change does not alter any assumptions made in the safety analysis. Therefore, the proposed change does not create the possibility of a new or different accident from any accident previously evaluated.

3. Does the proposed change involve a significant reduction in a margin of safety?

Response: No.

The proposed change deleting the second completion time from the technical specification pertaining to the AFW system does not alter the manner in which safety limits, limiting safety system settings or limiting conditions for operation are determined. The safety analysis acceptance criteria are not affected by this change. The proposed changes will not result in plant operation in a configuration outside of the design basis. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: James R. Curtiss, Esq., Winston & Strawn, 1700 K Street, NW., Washington, DC 20006-3817.

NRC Branch Chief: Thomas G. Hiltz.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of amendment request: April 29, 2008.

Description of amendment request: The proposed amendments would revise Technical Specifications Figure 3.1.7-1, showing the sodium pentaborate solution volume versus concentration requirements by re-labeling the horizontal axis.

Basis for proposed no significant hazards consideration determination: As required by 10 CFR 50.91(a), the licensee has provided its analysis of the issue of no significant hazards consideration, which is presented below:

1. Does the proposed amendment involve a significant increase in the probability or consequences of an accident previously evaluated.

Response: No

This proposed Technical Specifications change will not result in any changes to the operation, maintenance, or surveillance of any plant systems, structures, or components designed for the prevention or mitigation of previously evaluated events. This amendment proposes editorial changes to the Figure 3.1.7-1, “sodium sentaborate Solution Volume Versus Concentration Requirements.” The plot will be enlarged such that all the tic marks on the horizontal axis can be labeled. The plotted data remains the same. Therefore the response to an ATWS [Anticipated Transient Without Scram] event or to any other event requiring use of the SLC [Standby Liquid Control] system is unaffected.

For the above reasons, the proposed amendment does not involve a significant increase in the probability or consequences of a previously evaluated accident.

2. Does the proposed amendment create the possibility of a new or different kind of accident from any previously evaluated?

Response: No

This proposed amendment does not make any changes to the operation testing, maintenance, or surveillance of any safety related, or otherwise important to safety, system. These systems will all continue to be operated, surveilled and maintained within their design bases. The proposed changes to the SLC system figure is editorial and will improve the readability of the plot.

For the reasons noted above, this proposed amendment will not introduce the possibility of a new or different kind of accident.

3. Does the proposed amendment involve a significant reduction in a margin of safety?

Response: No

This proposed amendment makes an editorial revision to the Technical Specifications. Specifically, the plot of Sodium Pentaborate solution volume versus concentration is being enlarged to enable the proper labeling of all the tic marks on the horizontal axis, which indicates the volume. The plotted data is not changing. Therefore, the Technical Specifications assumptions and margins to safety remain unaffected.

The NRC staff has reviewed the licensee's analysis and, based on this review, it appears that the three standards of 10 CFR 50.92(c) are satisfied. Therefore, the NRC staff proposes to determine that the amendment request involves no significant hazards consideration.

Attorney for licensee: Ernest L. Blake, Jr., Esquire, Shaw, Pittman, Potts and Trowbridge, 2300 N Street, NW., Washington, DC 20037.

NRC Branch Chief: Melanie C. Wong.

Tennessee Valley Authority, Docket No. 50-259 , Browns Ferry Nuclear Plant (BFN), Unit 1, Limestone County, Alabama

Date of amendment request: March 26, 2008.

Description of amendment request: The proposed amendment would revise the Reactor Pressure Vessel (RPV) material surveillance program required by Appendix H to 10 CFR Part 50. This program incorporates the Boiling Water Reactor Vessel and Internals Project (BWRVIP) Integrated Surveillance Program (ISP) into the BFN Unit 1 licensing basis. The program developed by the BWRVIP has been previously evaluated by the NRC staff and found to be acceptable, and similar amendments have been approved for BFN Units 2 and 3.

Basis for proposed no significant hazards consideration determination: As required by 10 CFR 50.91(a), the licensee has provided its analysis of the issue of no significant hazards consideration, which is presented below:

1. The proposed amendment does not involve a significant increase in the probability or consequences of an accident previously evaluated.

The proposed change implements an integrated surveillance program that has been evaluated by the NRC staff as meeting the requirements of paragraph III.C of Appendix H to 10 CFR 50. Consequently, the change does not significantly increase the probability of any accident previously evaluated. The change provides the same assurance of RPV integrity. The change will not cause the reactor pressure vessel or interfacing systems to be operated outside their design or testing limits. Also, the change will not alter any assumptions previously made in evaluating the radiological consequences of accidents. Therefore, the proposed change does not involve a significant increase in the probability or consequences of an accident previously evaluated.

2. The proposed amendment does not create the possibility of a new or different kind of accident from any accident previously evaluated.

The proposed change revises the BFN Unit 1 licensing basis to reflect participation in the BWRVIP ISP. The proposed change does not involve a modification of the design of plant structures, systems, or components. The change will not impact the manner in which the plant is operated as plant operating and testing procedures will not be affected by the change. The change will not degrade the reliability of structures, systems, or components important to safety as equipment protection features will not be deleted or modified, equipment redundancy or independence will not be reduced, supporting system performance will not be increased, and increased or more severe testing of equipment will not be imposed. No new accident types or failure modes will be introduced as a result of this proposed change.

Therefore, the proposed change does not create the possibility of a new or different kind of accident from that previously evaluated.

3. The proposed amendment does not involve a significant reduction in a margin of safety.

The proposed change has been evaluated as providing an acceptable alternative to the plant-specific RPV material surveillance program and meets the requirements of 10 CFR 50 Appendix H for RPV material surveillance. Appendix G to 10 CFR 50 describes the conditions that require pressure temperature (P/T) limits and provides the general bases for these limits. Until the results from the Integrated Surveillance Program become available, RG 1.99, Revision 2 will be used to predict the amount of neutron irradiation damage. The use of operating limits based on these criteria, as defined by applicable regulations, codes, and standards, provide reasonable assurance that nonductile or rapidly propagating failure will not occur. The P/T limits are not derived from Design Basis Accident (DBA) analyses. They are prescribed during normal operation to avoid encountering pressure, temperature, and temperature rate of change conditions that might cause undetected flaws to propagate and cause nonductile failure of the reactor coolant pressure boundary (RCPB). Since the P/T limits are not derived from any DBA, there are no acceptance limits related to the P/T limits. Rather, the P/T limits are acceptance limits themselves since they preclude operation in an unanalyzed condition.

The proposed change will not affect any safety limits, limiting safety system settings, or limiting conditions of operation. The proposed change does not represent a change in initial conditions, or in a system response time, or in any other parameter affecting the course of an accident analysis supporting the Bases of any Technical Specification. Further, the proposed change does not involve a revision to P/T limits but rather a revision to the surveillance capsule withdrawal schedule such that there are presently no plans to remove any surveillance capsules from BFN Unit 1. The current P/T limits were established based on adjusted reference temperatures for RPV beltline materials calculated in accordance with RG 1.99, Revision 2. P/T limits will continue to be revised, as necessary, for changes in adjusted reference temperature due to changes influence when two or more credible surveillance data sets become available. When two or more credible surveillance data sets become available, P/T limits will be revised as prescribed by RG 1.99, Revision 2 or other NRC approved guidance. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Branch Chief: Thomas H. Boyce.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Virginia Electric and Power Company, Docket No. 50-281, Surry Power Station, Unit No. 2, Surry County, Virginia

Date of amendment request: April 14, 2008, as supplemented on May 6, 2008.

Brief Description of amendment request: The proposed amendment allowed a one-cycle revision to Surry Power Station, Unit No. 2 Technical Specifications (TSs). Specifically, TS 6.4.Q, “Steam Generator (SG) Program,” and TS 6.6.3, “Steam Generator Tube Inspection Report,” were revised to incorporate an interim alternate repair criterion (IARC) into the provisions for SG tube repair.

Date of publication of individual notice in Federal Register: April 25, 2008 (73 FR 22443).

Expiration date of individual notice: The comment period would have expired May 27, 2008. The Hearing period will expire June 24, 2008. A Public Notice was published in the Daily Press on May 12, and May 13, 2008, based on the supplemental letter dated May 6, 2008. The Daily Press notice provided an opportunity to submit comments by May 15, 2008. No comments have been received.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Public File Area 01F21, 11555 Rockville Pike (first floor), Rockville, Maryland. Publicly available records will be accessible from the Agencywide Documents Access and Management Systems (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

Nebraska Public Power District, Docket No. 50-298, Cooper Nuclear Station, Nemaha County, Nebraska

Date of amendment request: January 14, 2008.

Brief description of amendment: The amendment revised the Technical Specification (TS) requirements related to control room envelope habitability in accordance with TS Task Force (TSTF) traveler TSTF-448-A, “Control Room Habitability,” Revision 3.

Date of issuance: May 12, 2008.

Effective date: As of the date of issuance and shall be implemented within 180 days of issuance.

Amendment No.: 230.

Facility Operating License No. DPR-46: Amendment revised the Facility Operating License and Technical Specifications.

Date of initial notice in Federal Register: February 12, 2008 (73 FR 8070). The Commission's related evaluation of the amendment is contained in a Safety Evaluation dated May 12, 2008.

No significant hazards consideration comments received: No.

Omaha Public Power District, Docket No. 50-285, Fort Calhoun Station, Unit No. 1, Washington, Nebraska

Date of amendment request: October 12, 2007, as supplemented by letters dated March 22 and April 4, 2008.

Brief description of amendment: The amendment modified the FCS design and licensing basis to increase the shutdown cooling (SDC) system entry temperature from 300 degrees Fahrenheit (°F) to 350 °F (cold leg), and the SDC entry pressure from 250 pounds per square inch absolute (psia) to 300 psia (indicated at the pressurizer). Additionally, the Updated Safety Analysis Report described design methodology, applied to the SDC heat exchangers, is changed.

Date of issuance: May 9, 2008.

Effective date: As of the date of issuance and shall be implemented prior to startup from the 2008 refueling outage.

Amendment No.: 256.

Renewed Facility Operating License No. DPR-40: The amendment revised the Technical Specifications.

Date of initial notice in Federal Register: November 20, 2007 (72 FR 65370). The supplemental letters dated March 22 and April 4, 2008, provided additional information that clarified the application, did not expand the scope of the application as originally noticed, and did not change the staff's original proposed no significant hazards consideration determination.

The Commission's related evaluation of the amendment is contained in a safety evaluation dated May 9, 2008.

No significant hazards consideration comments received: No.

PSEG Nuclear LLC, Docket No. 50-354, Hope Creek Generating Station (HCGS), Salem County, New Jersey

Date of application for amendment: September 18, 2006, as supplemented by additional letters dated October 10 and 20, 2006, February 14, 16, and 28, March 13, 22, and 30, April 13, 18, and 30, May 10, 18, and 24, June 22, July 12, August 3, 17, 27, and 31, September 11, October 10 and 23, November 15 and 30, December 31, 2007, January 14, 15, 16, 18, 25 and 30, March 18, and May 2, 2008.

Brief description of amendment: The amendment increases the HCGS authorized maximum power level by approximately 15 percent, from the current licensed thermal power of 3339 megawatts thermal (MWt) to 3840 MWt. The amendment revises the HCGS Operating License and Technical Specifications necessary to implement the increased power level.

Date of issuance: May 14, 2008.

Effective date: As of the date of issuance, to be implemented within 60 days.

Amendment No.: 174.

Facility Operating License No. NPF-57: The amendment revised the TSs and the License.

Date of initial notice in Federal Register: May 3, 2007 (72 FR 24627). The supplements dated October 10 and 20, 2006, February 14, 16, and 28, March 13, 22, and 30, April 13, 18, and 30, May 10, 18, and 24, June 22, July 12, August 3, 17, 27, and 31, September 11, October 10 and 23, November 15 and 30, December 31, 2007, January 14, 15, 16, 18, 25 and 30, March 18, and May 2, 2008, provided additional information that clarified the application, did not expand the scope of the application as originally noticed, and did not change the staff's original proposed no significant hazards consideration determination.

The Commission's related evaluation of the amendment is contained in a Safety Evaluation dated May 14, 2008.

No significant hazards consideration comments received: No.

Notice of Issuance of Amendments to Facility Operating Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual Notice of Consideration of Issuance of Amendment, Proposed No Significant Hazards Consideration Determination, and Opportunity for a Hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License, and (3) the Commission's related letter, Safety Evaluation and/or Environmental Assessment, as indicated. All of these items are available for public inspection at the Commission's Public Document Room (PDR), located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the PDR Reference staff at 1 (800) 397-4209, (301) 415-4737 or by e-mail to pdr@nrc.gov.

The Commission is also offering an opportunity for a hearing with respect to the issuance of the amendment. Within 60 days after the date of publication of this notice, person(s) may file a request for a hearing with respect to issuance of the amendment to the subject facility operating license and any person whose interest may be affected by this proceeding and who wishes to participate as a party in the proceeding must file a written request via electronic submission through the NRC E-Filing system for a hearing and a petition for leave to intervene. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area 01F21, 11555 Rockville Pike (first floor), Rockville, Maryland, and electronically on the Internet at the NRC Web site, http://www.nrc.gov/reading-rm/doc-collections/cfr/. If there are problems in accessing the document, contact the PDR Reference staff at 1 (800) 397-4209, (301) 415-4737, or by e-mail to pdr@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the petitioner/requestor seeks to have litigated at the proceeding.

Each contention must consist of a specific statement of the issue of law or fact to be raised or controverted. In addition, the petitioner/requestor shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact.¹ Contentions shall be limited to matters within the scope of the amendment under consideration. The contention must be one which, if proven, would entitle the petitioner to relief. A petitioner/requestor who fails to satisfy these requirements with respect to at least one contention will not be permitted to participate as a party.

¹ To the extent that the applications contain attachments and supporting documents that are not publicly available because they are asserted to contain safeguards or proprietary information, petitioners desiring access to this information should contact the applicant or applicant's counsel and discuss the need for a protective order.

Each contention shall be given a separate numeric or alpha designation within one of the following groups:

1. Technical—primarily concerns/issues relating to technical and/or health and safety matters discussed or referenced in the applications.

2. Environmental—primarily concerns/issues relating to matters discussed or referenced in the environmental analysis for the applications.

3. Miscellaneous—does not fall into one of the categories outlined above.

As specified in 10 CFR 2.309, if two or more petitioners/requestors seek to co-sponsor a contention, the petitioners/requestors shall jointly designate a representative who shall have the authority to act for the petitioners/requestors with respect to that contention. If a petitioner/requestor seeks to adopt the contention of another sponsoring petitioner/requestor, the petitioner/requestor who seeks to adopt the contention must either agree that the sponsoring petitioner/requestor shall act as the representative with respect to that contention, or jointly designate with the sponsoring petitioner/requestor a representative who shall have the authority to act for the petitioners/requestors with respect to that contention.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

A request for hearing or a petition for leave to intervene must be filed in accordance with the NRC E-Filing rule, which the NRC promulgated in August 28, 2007, (72 FR 49139). The E-Filing process requires participants to submit and serve documents over the internet or in some cases to mail copies on electronic storage media. Participants may not submit paper copies of their filings unless they seek a waiver in accordance with the procedures described below.

To comply with the procedural requirements of E-Filing, at least five (5) days prior to the filing deadline, the petitioner/requestor must contact the Office of the Secretary by e-mail at HEARINGDOCKET@NRC.GOV, or by calling (301) 415-1677, to request (1) a digital ID certificate, which allows the participant (or its counsel or representative) to digitally sign documents and access the E-Submittal server for any proceeding in which it is participating; and/or (2) creation of an electronic docket for the proceeding (even in instances in which the petitioner/requestor (or its counsel or representative) already holds an NRC-issued digital ID certificate). Each petitioner/requestor will need to download the Workplace Forms Viewer™ to access the Electronic Information Exchange (EIE), a component of the E-Filing system. The Workplace Forms Viewer™ is free and is available at http://www.nrc.gov/site-help/e-submittals/install-viewer.html. Information about applying for a digital ID certificate is available on NRC's public Web site at http://www.nrc.gov/site-help/ e-submittals/apply-certificates.html.

Once a petitioner/requestor has obtained a digital ID certificate, had a docket created, and downloaded the EIE viewer, it can then submit a request for hearing or petition for leave to intervene. Submissions should be in Portable Document Format (PDF) in accordance with NRC guidance available on the NRC public Web site at http://www.nrc.gov/site-help/ e-submittals.html. A filing is considered complete at the time the filer submits its documents through EIE. To be timely, an electronic filing must be submitted to the EIE system no later than 11:59 p.m. Eastern Time on the due date. Upon receipt of a transmission, the E-Filing system time-stamps the document and sends the submitter an e-mail notice confirming receipt of the document. The EIE system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically may seek assistance through the “Contact Us” link located on the NRC Web site at http://www.nrc.gov/site-help/e-submittals.html or by calling the NRC technical help line, which is available between 8:30 a.m. and 4:15 p.m., Eastern Time, Monday through Friday. The help line number is (800) 397-4209 or locally, (301) 415-4737.

Participants who believe that they have a good cause for not submitting documents electronically must file a motion, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service.

Non-timely requests and/or petitions and contentions will not be entertained absent a determination by the Commission, the presiding officer, or the Atomic Safety and Licensing Board that the petition and/or request should be granted and/or the contentions should be admitted, based on a balancing of the factors specified in 10 CFR 2.309(c)(1)(i)-(viii). To be timely, filings must be submitted no later than 11:59 p.m. Eastern Time on the due date.

Documents submitted in adjudicatory proceedings will appear in NRC's electronic hearing docket which is available to the public at http://ehd.nrc.gov/EHD_Proceeding/home.asp, unless excluded pursuant to an order of the Commission, an Atomic Safety and Licensing Board, or a presiding officer. Participants are requested not to include personal privacy information, such as Social Security numbers, home addresses, or home phone numbers in their filings. With respect to copyrighted works, except for limited excerpts that serve the purpose of the adjudicatory filings and would constitute a Fair Use application, participants are requested not to include copyrighted materials in their submission.

Arizona Public Service Company, et al., Docket No. STN 50-529, Palo Verde Nuclear Generating Station, Unit No. 2, Maricopa County, Arizona

Date of application for amendment: April 10, 2008, as supplemented by letter dated April 30, 2008.

Brief description of amendment: The amendment revised Technical Specification (TS) 3.5.5, Refueling Water Tank (RWT) to increase the minimum required RWT level indications and the corresponding borated water volumes in TS Figure 3.5.5-1, “Minimum Required RWT Volume,” by approximately 3 percent. This change will ensure that there is adequate water volume available in the RWT to ensure that the engineered safety feature pumps and the new containment recirculation sump strainers will meet their design functions during loss-of-coolant accidents.

Date of issuance: May 9, 2008.

Effective date: As of the date of issuance and shall be implemented prior to startup from the 2008 refueling outage.

Amendment No.: Unit 2—169.

Facility Operating License No. NPF-51: The amendment revised the Operating License and Technical Specifications.

Public comments requested as to proposed no significant hazards consideration (NSHC): Yes. An individual 14-day Notice of Consideration of Issuance of Amendment to Facility Operating License was published in the Federal Register on April 17, 2008 (73 FR 20961). The notice provided an opportunity to submit comments on the Commission's proposed NSHC determination. No comments have been received. The notice also provided an opportunity to request a hearing by June 16, 2008, but indicated that if the Commission makes a final NSHC determination, any such hearing would take place after issuance of the amendment.

The supplemental letter dated April 30, 2008, provided additional information that clarified the application, did not expand the scope of the application as originally noticed, and did not change the staff's original proposed no significant hazards consideration determination as published in the Federal Register.

The Commission's related evaluation of the amendment, finding of exigent circumstances, state consultation, and final NSHC determination are contained in a safety evaluation dated May 9, 2008.

Attorney for licensee: Michael G. Green, Senior Regulatory Counsel, Pinnacle West Capital Corporation, P.O. Box 52034, Mail Station 8695, Phoenix, Arizona 85072-2034.

NRC Branch Chief: Thomas G. Hiltz.

Dated at Rockville, Maryland, this 22nd day of May 2008.
For the Nuclear Regulatory Commission.
Timothy J. McGinty,
Acting Director, Division of Operating Reactor Licensing, Office of Nuclear Reactor Regulation.

[FR Doc. E8-11963 Filed 6-2-08; 8:45 am]

BILLING CODE 7590-01-P